DEPARTMENT OF STATE

22 CFR Part 42

RIN 1400-AB39

[Public Notice 4314]

Documentation of Immigrants Under the Immigration and Nationality Act, as Amended—Issuance of New or Replacement Visas

AGENCY: Department of State.

ACTION: Final rule.

SUMMARY: This rule makes final the Department's interim rule pertaining to the issuance of replacement immigrant visas.

EFFECTIVE DATE: This rule takes effect March 20, 2003.

FOR FURTHER INFORMATION CONTACT: Pam Chavez, Legislation and Regulations Division, Visa Office, Room L603-C, SA-1, Department of State, Washington, DC 20522-0106, (202) 663-1206 or e-mail at chavezpr@state.gov.

SUPPLEMENTARY INFORMATION: On January 11, 2002, the Department published an interim rule [67 FR 1415] that deleted an incorrect citation that is no longer in effect. The rule also made editorial changes to include descriptions of the classes of aliens affected, rather than making statutory citations.

Final Rule

The Department's interim rule amended § 42.74(b). Although the Department solicited comments, no comments were received. Therefore, since no changes have been made to the interim rule, the Department feels it is unnecessary to publish the regulation again in full herein. The interim rule is adopted as final without changes.

Dated: February 25, 2003.
Maura Harty,
Assistant Secretary for Consular Affairs, Department of State.

[FR Doc. 03-6718 Filed 3-19-03; 8:45 am]

BILLING CODE 4710-06-P